DEPARTMENT OF COMMERCE

Foreign-Trade Zones Board

[Docket No. 67-2000]

Foreign-Trade Zone 115—Beaumont, TX; Application for Expansion; Amendment of Application—Sun Pipe Line Facility

Notice is hereby given that the application by the Foreign-Trade Zone of Southeast Texas, Inc., grantee of Foreign-Trade Zone 115, requesting authority to expand its zone to include a petroleum terminal in Nederland (Jefferson County), Texas, (65 FR 77560, 12/12/00), has been amended to include nine petroleum product storage tanks within the tank farm area of the proposed expansion site. The nine tanks are currently part of Subzone 116B, Site 4 (Fina). This proposal would remove them from Subzone 116B and include them within Zone 115.

The application remains otherwise unchanged.

The comment period is reopened until February 21, 2001.

Dated: February 7, 2001.
Dennis Puccinelli,
Executive Secretary.

[FR Doc. 01-3639 Filed 2-12-01; 8:45 am]

BILLING CODE 3510-DS-P